DEPARTMENT OF THE INTERIOR

National Park Service

[NPS-WASO-NAGPRA-20022; PPWOCRADN0-PCU00RP14.R50000]

Notice of Inventory Completion: Fowler Museum at the University of California Los Angeles, Los Angeles, CA, and California Department of Transportation, Sacramento, CA

AGENCY: National Park Service, Interior.

ACTION: Notice.

SUMMARY: The Fowler Museum at the University of California Los Angeles (UCLA) and the California Department of Transportation have completed an inventory of human remains and associated funerary objects, in consultation with the appropriate Indian tribes or Native Hawaiian organizations, and have determined that there is no cultural affiliation between the human remains and associated funerary objects and any present-day Indian tribes or Native Hawaiian organizations. Representatives of any Indian tribe or Native Hawaiian organization not identified in this notice that wish to request transfer of control of these human remains and associated funerary objects should submit a written request to the California Department of Transportation. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the California Department of Transportation at the address in this notice by February 26, 2016.

ADDRESSES: Tina Biorn, California Department of Transportation, P.O. Box 942874 MS 27, Sacramento, CA 94271-0001, telephone (916) 653-0013, email tina.biorn@dot.ca.gov.

SUPPLEMENTARY INFORMATION: Notice is here given in accordance with the Native American Graves Protection and Repatriation Act (NAGPRA), 25 U.S.C. 3003, of the completion of an inventory of human remains and associated funerary objects in the physical custody of the Fowler Museum at UCLA and under the control of the California Department of Transportation. The human remains and associated funerary objects were removed from Los Angeles County, CA.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Fowler Museum at UCLA professional staff in consultation with representatives of Santa Ynez Band of Chumash Mission Indians of the Santa Ynez Reservation, California; San Manuel Band of Mission Indians, California (previously listed as the San Manual Band of Serrano Mission Indians of the San Manual Reservation); and the following nonfederally recognized Indian groups: Fernandeño Tataviam Band of Mission Indians; Gabrielino/Tongva Indians of California Tribe; Gabrielino/Tongva Nation; Gabrieleno/Tongva Tribal Council; San Gabriel Band of Mission Indians; Ti'at Society; and the Traditional Council of Pimu.

History and Description of the Human Remains and Associated Funerary Objects

In 1945, 1963, 1967, and 1968, human remains representing, at minimum, seven individuals were removed from Big Tujunga Wash (CA-LAN-167) in Los Angeles County, CA. The site was excavated in 1963 by Jay Ruby of the UCLA Archaeological Survey. The excavation was carried out as a salvage project after a dragline digging operation for a sewer line exposed and damaged one burial within the highway right-of-way. The human remains from this burial were recovered at that time. Subsequent review of the collection also identified fragmentary remains from midden contexts. A second burial, excavated from the site sometime between 1945-1951, by Edwin Walker of the Southwest Museum, was included along with the 1963 collection under Accession Number 501 and is included here. In all, a minimum of four adults, an infant, and a juvenile are represented. Sex was unable to be determined for any of the human remains. Nelson N. Leonard led a second project during the summers of 1967 and 1968 as mitigation for the building of the Foothill Freeway over the site. From the 1967-68 project, a juvenile human molar was identified. Ruby dated the site to A.D. 435 to 1800. No known individuals were identified. The 14 associated funerary objects are animal bones recovered in proximity to the burial recovered in 1945.

In 1965, human remains representing, at minimum, three individuals were removed from the Hammack Street site in Los Angeles County, CA (CA-LAN-194). The site was excavated by Chester King of the University of California Davis Anthropology Department for the California Department of Transportation. The project was designed for mitigation of impacts to the site from freeway construction for the Marina Freeway. The collection was curated at UCLA after analysis. Site CA-LAN-194 dates to the historic period based on the artifact analyses. The human remains consists of three human bone removed from midden contexts representing at least three individuals. No age or sex could be determined due to their fragmentary nature. No known individuals were identified. Collection documentation does not indicate any burials or associated funerary objects.

The sites detailed in this notice have been identified through tribal consultation to be within the traditional territory of the Tataviam/Fernandeno and Tongva/Gabrielino people. These locations are consistent with ethnographic and historic documentation of the Tataviam/Fernandeno and Tongva/Gabrielino people.

Linguistic and ethnohistoric evidence shows that these Takic-speaking peoples moved into the San Fernando Valley and greater Los Angeles area by at least 3000 B.C. These groups have a common heritage, but began to diverge after arrival. Analysis of historical records from missions in the Greater Los Angeles area shows that at the time of mission recruitment, in the 18th and 19th centuries, the occupants of the area were descended from the populations living in the area since 3000 B.C.

The associated funerary objects described in this notice are consistent with those of groups ancestral to the present-day Tataviam/Fernandeno and Tongva/Gabrielino people. The material cultures of earlier groups living in the geographical areas mentioned in this notice are characterized by archeologists as having passed through stages over the past 5,000 years. Many local archeologists assert that the changes in the material culture reflect evolving ecological adaptations and related changes in social organization of the same populations and do not represent population displacements or movements. The same range of artifact types and materials were used from the early pre-contact period until historic times. Tribal consultants explicitly state that population mixing, which did occur on a small scale, would not alter the continuity of the shared group identities of people associated with specific locales. Based on this evidence, continuity through time can be traced for all sites listed in this notice with present-day Tataviam/Fernandeno and Tongva/Gabrielino people. However, the Tataviam/Fernandeno and Tongva/Gabrielino people currently lack federal recognition within a single unified tribe.

At the time of the excavation and removal of these human remains and associated funerary objects, the land from which the human remains and associated funerary objects were removed was not the tribal land of any Indian tribe or Native Hawaiian organization. In 2014 and 2015, the Fowler Museum at UCLA consulted with Indian tribes who are recognized as aboriginal to the area from which these Native American human remains and associated funerary objects were removed. None of these Indian tribes agreed to accept control of the human remains and associated funerary objects. In October 2015, the Fowler Museum at UCLA and California Department of Transportation agreed to transfer control of the human remains and associated funerary objects to San Manuel Band of Mission Indians, California (previously listed as the San Manual Band of Serrano Mission Indians of the San Manual Reservation).

Determinations Made by the California Department of Transportation

Officials of the California Department of Transportation have determined that:

• Pursuant to 25 U.S.C. 3001(9), the human remains described in this notice represent the physical remains of 10 individuals of Native American ancestry based on metric and non-metric analysis.

• Pursuant to 25 U.S.C. 3001(3)(A), the 14 items described in this notice are reasonably believed to have been placed with or near individual human remains at the time of death or later as part of the death rite or ceremony.

• Pursuant to 25 U.S.C. 3001(2), a relationship of shared group identity cannot be reasonably traced between the Native American human remains and associated funerary objects and any present-day Indian tribe.

• Pursuant to 43 CFR 10.11(c)(2)(i), the disposition of the human remains and associated funerary objects may be to San Manuel Band of Mission Indians, California (previously listed as the San Manual Band of Serrano Mission Indians of the San Manual Reservation).

Additional Requestors and Disposition

Representatives of any Indian tribe or Native Hawaiian organization not identified in this notice that wish to request transfer of control of these human remains and associated funerary objects should submit a written request with information in support of the request to Tina Biorn, California Department of Transportation, P.O. Box 942874 MS 27, Sacramento, CA 94271-0001, telephone (916) 653-0013; email tina.biorn@dot.ca.gov, by February 26, 2016. After that date, if no additional requestors have come forward, transfer of control of the human remains and associated funerary objects to the San Manuel Band of Mission Indians, California (previously listed as the San Manual Band of Serrano Mission Indians of the San Manual Reservation), may proceed.

The California Department of Transportation is responsible for notifying the San Manuel Band of Mission Indians, California (previously listed as the San Manual Band of Serrano Mission Indians of the San Manual Reservation), that this notice has been published.

Dated: December 21, 2015.
Melanie O'Brien,
Manager, National NAGPRA Program.

[FR Doc. 2016-01603 Filed 1-26-16; 8:45 am]

BILLING CODE 4312-50-P